DEPARTMENT OF TRANSPORTATION

National Highway Traffic Safety Administration

Announcing the Tenth Quarterly Meeting of the Crash Injury Research and Engineering Network (CIREN)

AGENCY: National Highway Traffic Safety Administration (NHTSA), DOT.

ACTION: Meeting Announcement.

SUMMARY: This notice announces the Tenth Quarterly Meeting of members of the Crash Injury Research and Engineering Network. CIREN is a collaborative effort to conduct research on crashes and injuries at ten Level 1 Trauma Centers linked by a computer network. Researchers can review data and share expertise, which could lead to a better understanding of crash injury mechanisms and the design of safer vehicles.

DATE AND TIME: The meeting is scheduled from 9 a.m. to 5 p.m. on Thursday, December 5, 2002.

ADDRESSES: The meeting will be held at the Department of Transportation Headquarters, (Nassif Building), 400 Seventh Street, SW, Washington, DC 20590.

SUPPLEMENTARY INFORMATION: The CIREN System has been established and crash cases have been entered into the database by each Center. CIREN cases may be viewed from the NHTSA/CIREN Web site at: http://www-nrd.nhtsa.dot.gov/departments/nrd-50/ciren/CIREN.html. NHTSA has held three Annual Conferences where CIREN research results were presented. Further information about the three previous CIREN conferences is also available through the NHTSA Web site. NHTSA held the first quarterly meeting on May 5, 2000, with a topic of lower extremity injuries in motor vehicle crashes; the second quarterly meeting on July 21, 2000, with a topic of side impact crashes; the third quarterly meeting on November 30, 2000, with a topic of thoracic injuries in crashes; the fourth quarterly meeting on March 16, 2001, with a topic of offset frontal collisions; the fifth quarterly meeting on June 21, 2001, on CIREN outreach efforts; the sixth quarterly meeting (held in Ann Arbor, Michigan) with a topic of injuries involving sport utility vehicles, the seventh quarterly meeting on December 6, 2001, with a topic of Age Related Injuries (Elderly and Children), the eighth quarterly meeting on April 25, 2002, with a topic of Head and Traumatic Brain Injuries, and the ninth quarterly meeting on August 22, 2002 at Harborview Injury Prevention and Research Center in Seattle, Washington with presentations highlighting the various research specialities of the Centers. Presentations from these meetings are available through the NHTSA website.

NHTSA plans to continue holding quarterly meetings on a regular basis to disseminate CIREN information to interested parties. This is the tenth such meeting. The ten CIREN Centers will be presenting papers on the research specialty for their particular center regarding crash injury mechanisms. The next meeting is tentatively scheduled for April 3, 2003.

Should it be necessary to cancel the meeting due to inclement weather or to any other emergencies, a decision to cancel will be made as soon as possible and posted immediately on NHTSA's Web site http://www.nhtsa.dot.gov/nhtsa/announce/meetings/. If you do not have access to the Web site, you may call the contact listed below and leave your telephone or fax number. You will be called only if the meeting is postponed or canceled.

FOR FURTHER INFORMATION CONTACT: Catherine McCullough, Office of Advanced Safety Research, 400 Seventh Street, SW, Room 6220, Washington, DC 20590, telephone: (202) 366-4734.

Issued on: November 8, 2002.
Raymond P. Owings,
Associate Administrator for Advanced Research and Analysis, National Highway Traffic Safety Administration.

[FR Doc. 02-29229 Filed 11-18-02; 8:45 am]

BILLING CODE 4910-59-P